SURFACE TRANSPORTATION BOARD

[Docket No. FD 36850]

Portland & Western Railroad, Inc.—Acquisition and Operation Exemption—Port of Tillamook Bay

Portland & Western Railroad, Inc. (PNWR), a Class III rail carrier, has filed a verified notice of exemption under 49 CFR 1150.41 to acquire from Port of Tillamook Bay (POTB) and operate approximately 1.01 miles of rail line near Banks, Or., between milepost 774.0 and milepost 775.01 in Washington County, Or. (the Line).

The verified notice states that PNWR and POTB have entered into a purchase agreement dated April 9, 2025. PNWR states that it holds incidental overhead trackage rights over a portion of the Line from approximately milepost 774.0 to milepost 774.7, which it acquired in connection with the unrelated purchase of a parallel line. See Portland & W. R.R.—Trackage Rts. Exemption—Burlington N. R.R., FD 32765 (STB served Oct. 13, 1995). PNWR states that, after the transaction, it will operate the Line (and the parallel line) and will no longer need to exercise the incidental trackage rights. The verified notice also states that there are currently no customers on the Line and that POTB no longer has any railroad operating employees.

PNWR certifies that its projected annual revenues as a result this transaction will not exceed those that would qualify it as a Class III carrier and that its annual revenues currently exceed $5 million. Pursuant to 49 CFR 1150.42(e), if a carrier's projected annual revenues will exceed $5 million, it must, at least 60 days before the exemption becomes effective, post a notice of its intent to undertake the proposed transaction at the workplace of the employees on the affected lines, serve a copy of the notice on the national offices of the labor unions with employees on the affected lines, and certify to the Board that it has done so. However, PNWR has requested a waiver of the 60-day advance labor notice requirement. PNWR's waiver request will be addressed in a separate decision. The Board will establish the effective date of the exemption in its decision on the waiver request.

PNWR also certifies that the proposed acquisition and operation of the Line does not involve a provision or agreement that may limit future interchange with a third-party connecting carrier.

If the verified notice contains false or misleading information, the exemption is void ab initio. Petitions to revoke the exemption under 49 U.S.C. 10502(d) may be filed at any time. The filing of a petition to revoke will not automatically stay the effectiveness of the exemption. Petitions for stay must be filed no later than May 16, 2025.

All pleadings, referring to Docket No. FD 36850, must be filed with the Surface Transportation Board either via e-filing on the Board's website or in writing addressed to 395 E Street SW, Washington, DC 20423-0001. In addition, a copy of each pleading must be served on PNWR's representative, Justin J. Marks, Clark Hill PLC, 1001 Pennsylvania Ave. NW, Suite 1300 South, Washington, DC 20004.

According to PNWR, this action is categorically excluded from environmental review under 49 CFR 1105.6(c) and from historic preservation reporting requirements under 49 CFR 1105.8(b).

Board decisions and notices are available at www.stb.gov.

Decided: May 6, 2025.
By the Board, Scott M. Zimmerman, Acting Director, Office of Proceedings.
Eden Besera,
Clearance Clerk.

[FR Doc. 2025-08161 Filed 5-8-25; 8:45 am]

BILLING CODE 4915-01-P